DEPARTMENT OF TRANSPORTATION

Federal Railroad Administration

[Docket Number FRA-2023-0087]

Petition for Waiver of Compliance

Under part 211 of title 49 Code of Federal Regulations (CFR), this document provides the public notice that on October 10, 2023, Union Pacific Railroad (UP) petitioned the Federal Railroad Administration (FRA) for a waiver of compliance from certain provisions of the Federal railroad safety regulations contained at 49 CFR part 225 (Railroad Accidents/Incidents: Reports Classification, and Investigations). FRA assigned the petition Docket Number FRA-2023-0087.

Specifically, UP requests relief from § 225.25(h), Recordkeeping, which requires that a railroad post “a listing of all injuries and occupational illnesses reported to FRA as having occurred at an establishment . . . in a conspicuous location at that establishment.” In its petition, UP states that it “maintains a web portal that allows employees to access and review information from internet enabled electronic devices . . . [and] includes a link to UP's posting of all injuries and occupational illnesses reported to the FRA.” In support of its request, UP states that the digital posting allows employees to access the injury and occupational illness information quickly and easily from any location and at any time of day. Additionally, the reporting team can keep the listings up-to-date and accurate. UP also states that the listing will additionally be available on a television mounted to a wall at work locations where such screens are available, beginning with the Council Bluffs, Iowa, terminal as a pilot site. Moreover, UP notes that “employees may also request a copy of the logs from their respective supervisor at any time.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by February 5, 2024 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-26804 Filed 12-6-23; 8:45 am]

BILLING CODE P